DEPARTMENT OF AGRICULTURE

Rural Utilities Service

Notice of Finding of No Significant Impact

AGENCY: Rural Utilities Service, USDA.

ACTION: Notice of finding of no significant impact.

SUMMARY: Notice is hereby given that the Rural Utilities Service (RUS), has made a finding of no significant impact (FONSI) regarding its approval of front end financing for purchase of combustion turbines by borrowers prior to the completion of a site specific environmental review.

FOR INFORMATION CONTACT: Lawrence R. Wolfe, Engineering and Environmental Staff, Rural Utilities Service, Stop 1571, 1400 Independence Avenue, SW., Washington, DC 20250-1571, telephone (202) 720-1784. The E-mail address is lwolfe@rus.usda.gov.

SUPPLEMENTARY INFORMATION: On December 11, 2000, the Rural Utilities Service (RUS) issued a programmatic analysis that reconciles RUS procedural requirements for environmental analysis with the emerging needs of a deregulating electric utility industry.

No potential significant impacts resulting from the implementation of this proposed action have been identified. Therefore, RUS has determined that this finding of no significant impact fulfills its obligations under the National Environmental Policy Act, as amended (42 U.S.C. 4321 et seq.), the Council on Environmental Quality Regulations (40 CFR parts 1500-1508), and RUS” Environmental Policies and Procedures (7 CFR part 1794) for the proposed action.

RUS has determined that its action will not have a significant impact on the quality of the human environment. Therefore, an environmental impact statement will not be prepared for this action.

Dated: January 18, 2001.
Blaine D. Stockton, Jr.,
Assistant Administrator-Electric Rural Utilities Service.

[FR Doc. 01-2154 Filed 1-23-01; 8:45 am]

BILLING CODE 3410-15-P